DEPARTMENT OF TRANSPORTATION

Federal Aviation Administration

Notice of Intent To Shorten Application Deadline for Appointment of Members to Aircraft Repair and Maintenance Advisory Committee

AGENCY: Federal Aviation Administration (FAA) DOT.

ACTION: Notice.

SUMMARY: This notice announces the intent of the FAA to reduce the application period from 60 days to 30 days for those persons interested in appointment to the FAA Aircraft Repair and Maintenance Advisory Committee.

DATES: Requests for appointment as a member of the committee must be submitted on or before September 5, 2000.

FOR FURTHER INFORMATION CONTACT: Russell S. Unangst, Jr., Federal Aviation Administration (AFS-300), 800 Independence Avenue, SW., Washington, DC 20591; phone (202) 267-8844; fax (202) 267-5115; e-mail russell.unangst@faa.gov.

SUPPLEMENTARY INFORMATION:

Background

On July 27, 2000, a notice was published in the Federal Register, 65FR46192, announcing the FAA's intent to establish an Aircraft Repair and Maintenance Advisory Committee. The advisory committee was mandated by the Wendell H. Ford Aviation Investment and Reform Act for the 21st Century, Public Law 106-81, section 734. The committee will review issues related to the use and oversight of aircraft and aviation component repair and maintenance facilities located within, our outside of, the United States. The original deadline for submission of applications was September 25, 2000. However, the FAA has determined that 60 days is too long an application period considering the compelling need for the work of the committee. Accordingly, the FAA finds that it is necessary to shorten the timeframe for submission of applications.

This notice informs the public that the FAA will reduce the application period from 60 days to 30 days. Accordingly, requests for appointment should now be submitted on or before September 5, 2000.

Issued in Washington, DC, on August 14, 2000.
Angela B. Elgee,
Manager, Continuous Airworthiness Maintenance Division.

[FR Doc. 00-21263 Filed 8-21-00; 8:45 am]

BILLING CODE 4910-13-M